DEPARTMENT OF DEFENSE

Department of the Navy

Notice of Intent To Grant Partially Exclusive Patent License; Cultural Quotient Corporation

AGENCY: Department of the Navy; DoD.

ACTION: Notice.

SUMMARY: The inventions listed below are assigned to the United States Government as represented by the Secretary of the Navy. The Department of the Navy hereby gives notice of its intent to grant to Cultural Quotient Corporation, a revocable, nonassignable, partially exclusive license to practice in the United States, the Government-owned inventions described below: U.S. Patent Application 14/587,455 (Navy Case 103030): Published July 23, 2015, entitled “ADHESION IMPROVEMENT VIA MATERIAL NANOSTRUCTURING OR TEXTURIZING”// U.S. Patent Application No. 15/077,352 (Navy Case 200332): Published July 14, 2016, entitled “MODIFYING THE SURFACE CHEMISTRY OF A MATERIAL”// and Navy Case 200322, entitled “ADHESION IMPROVEMENT VIA MATERIAL NANOSTRUCTURING OR TEXTURING—MEDICAL APPLICATIONS.”

DATES: Anyone wishing to object to the grant of this license has fifteen days from the date of this notice to file written objections along with supporting evidence, if any.

ADDRESSES: Written objections are to be filed with Naval Surface Warfare Center, Crane Div, Code OOL, Bldg 2, 300 Highway 361, Crane, IN 47522-5001.

FOR FURTHER INFORMATION CONTACT: Mr. Christopher Monsey, Naval Surface Warfare Center, Crane Div, Code OOL, Bldg 2, 300 Highway 361, Crane, IN 47522-5001, Email Christopher.Monsey@navy.mil, telephone 812-854-4100.

Authority: 35 U.S.C. 207, 37 CFR part 404.

Dated: November 16, 2016.
C.D. Mora,
Commander, Judge Advocate General's Corps, U.S. Navy, Federal Register Liaison Officer.

[FR Doc. 2016-28067 Filed 11-21-16; 8:45 am]

BILLING CODE 3810-FF-P